DEPARTMENT OF ENERGY

Federal Energy Regulatory Commission

Notice of Staff Attendance at North American Electric Reliability Corporation Project 2022-02 Uniform Modeling Framework for IBR Standard Drafting Team Meeting

The Federal Energy Regulatory Commission hereby gives notice ¹ that members of the Commission and/or Commission staff may attend the following meetings:

¹ 18 CFR 385.2009 (2023).

North American Electric Reliability Corporation: Project 2022-02 Uniform Modeling Framework for IBR Standard Drafting Team Meeting, WebEx

July 29, 2024 | 10:30 a.m.-12:30 p.m. Eastern

Further information regarding this meeting and how to join remotely may be found at: https://www.nerc.com/pa/Stand/Lists/stand/DispForm.aspx?ID=2401.

The discussions at the meetings, which are open to the public, may address matters at issue in the following Commission proceedings:

Docket No. RR24-2-000 North American Electric Reliability Corporation

For further information, please contact Leigh Anne Faugust at (202) 502-6396 or leigh.faugust@ferc.gov.

Dated: July 24, 2024.
Debbie-Anne A. Reese,
Acting Secretary.

[FR Doc. 2024-16746 Filed 7-29-24; 8:45 am]

BILLING CODE 6717-01-P